OFFICE OF GOVERNMENT ETHICS

Agency Information Collection Activities; Submission for OMB Review; Proposed Collection; Comment Request for a Modified OGE Form 201 Request an Individual's Ethics Documents

AGENCY: Office of Government Ethics (OGE).

ACTION: Notice of request for agency and public comments.

SUMMARY: After this first round notice and public comment period, the U.S. Office of Government Ethics (OGE) plans to submit a proposed modified OGE Form 201, entitled “Request an Individual's Ethics Documents,” to the Office of Management and Budget (OMB) for review and approval of a three-year extension under the Paperwork Reduction Act of 1995. The OGE Form 201 is used by persons requesting access to executive branch public financial disclosure reports and other covered records.

DATES: Written comments by the public and agencies on this proposed extension are invited and must be received by November 10, 2025. Information on how to submit a written comment can be found in the ADDRESSES section of this notice.

Additionally, a virtual public meeting will be held on October 6, 2025 from 2:00-3:00 p.m. Eastern Time. Information on how to register for the meeting can be found in the SUPPLEMENTARY INFORMATION section of this notice.

ADDRESSES: Comments may be submitted to OGE, by any of the following methods:

Email: usoge@oge.gov. (Include reference to “OGE Form 201 Paperwork Comment” in the subject line of the message.)

Mail, Hand Delivery/Courier: Office of Government Ethics, Suite 750, 250 E Street SW, Washington, DC 20024, Attention: McEvan Baum, Assistant Counsel.

Instructions: Comments may be posted on OGE's website, www.oge.gov. Sensitive personal information, such as account numbers or Social Security numbers, should not be included. Comments generally will not be edited to remove any identifying or contact information.

FOR FURTHER INFORMATION CONTACT: McEvan Baum at the U.S. Office of Government Ethics; telephone: 202-482-9287; TTY: 800-877-8339; Email: usoge@oge.gov. An electronic copy of the OGE Form 201 version used to manually submit access requests to OGE or other executive branch agencies by mail or FAX is available in the Forms Library section of OGE's website at http://www.oge.gov. A paper copy may also be obtained, without charge, by contacting Mr. Baum. An automated version of the OGE Form 201, also available on OGE's website, enables the applicant to electronically fill out, submit and receive access to copies of the public financial disclosure reports certified by the U.S. Office of Government Ethics.

SUPPLEMENTARY INFORMATION:

Title: OGE Form 201 Request an Individual's Ethics Documents.

Agency Form Number: OGE Form 201.

OMB Contro Number: 3209-0002.

Type of Information Collection: Extension with modifications of a currently approved collection.

Type of Review Request: Regular.

Respondents: Individuals requesting access to executive branch public financial disclosure reports and other covered records.

Estimated Annual Number of Respondents: 12,461.

Estimated Time per Response: 10 minutes.

Estimated Total Annual Burden: 2,077 hours.

Abstract: The OGE Form 201 collects information from, and provides certain information to, persons who seek access to OGE Form 278 Public Financial Disclosure Reports, including OGE Form 278-T Periodic Transaction Reports, and other covered records. The form reflects the requirements of the Ethics in Government Act, subsequent amendments pursuant to the STOCK Act, and OGE's implementing regulations that must be met by a person before access can be granted. These requirements include the address of the requester, as well as any other person on whose behalf a record is sought, and acknowledgement that the applicant is aware of the prohibited uses of executive branch public disclosure financial reports. See 5 U.S.C. 13107(b) and (c) and 13122(b)(1) and 5 CFR 2634.603(c) and (f). Executive branch departments and agencies are encouraged to utilize the OGE Form 201 for individuals seeking access to public financial disclosure reports and other covered documents. OGE permits departments and agencies to use or develop their own forms as long as the forms collect and provide all of the required information.

OGE currently has OMB approval for six versions of the form: OGE's online application (English, Arabic, Chinese, French, and Spanish), and a PDF version in English.

OGE is proposing two changes to both English language versions of the form. First, OGE proposes updating the language of its Privacy Act Statement. Second, OGE proposes replacing the outdated Ethics in Government Act citation with the current citation.

OGE is also proposing additional changes only to the English language PDF version of the form, as summarized below:

• Adding text to the Supplemental Information section, page 3 (section 5a), and page 5 (above the large text box) to inform requesters of general retention periods that may impact availability of documents they are requesting.

• Modifying the text in several places to improve accuracy, clarity, consistency, and align with plain language principles.

To view a pdf draft containing the proposed changes, visit https://www.oge.gov/web/OGE.nsf/0/7CBE89A1496B40E785258CEC00555DC2/$FILE/OGE%20Form%20201%20Renewal_Draft_website.pdf.

To register to attend the virtual public meeting on October 6, 2025 from 2:00-3:00 p.m. Eastern Time, visit https://events.gcc.teams.microsoft.com/event/2a12717b-0338-4df7-af40-342375b8dd51@c0abca44-0182-40a9-8010-01ec94254f77.

Request for Comments: Agency and public comment is invited specifically on the need for and practical utility of this information collection, the accuracy of OGE's burden estimate, the enhancement of quality, utility and clarity of the information collected, and the minimization of burden (including the use of information technology). Comments received in response to this notice will be summarized for and included with the OGE request for extension of OMB paperwork approval. The comments will also become a matter of public record.

Specifically, OGE seeks public comment on the following:

• What problems do you have using the form?

• Are there sections of the form or instructions that are unclear?

• Is there information provided that is confusing?

• What additional information would be helpful?

Authority: 44 U.S.C. 3506(c)(2)(A); 5 U.S.C. 13107(b) and (c); 5 U.S.C. 13122(b)(1); 5 CFR 2634.603(c) and (f).

Approved: September 4, 2025.
Shelley K. Finlayson,
Chief of Staff and Program Counsel, Office of Government Ethics.

[FR Doc. 2025-17233 Filed 9-8-25; 8:45 am]

BILLING CODE 6345-04-P